DEPARTMENT OF TRANSPORTATION

Federal Aviation Administration

14 CFR Part 43

[Docket No. FAA-2007-28631; Amendment No. 43-41]

RIN 2120-AJ11

Recording of Major Repairs and Major Alterations

AGENCY: Federal Aviation Administration (FAA), DOT.

ACTION: Final rule.

SUMMARY: This action amends instructions to aviation maintenance providers regarding submittal of FAA Form 337, Major Repair and Alteration, for either major repair or major alteration; or for extended-range fuel tanks installed within the passenger compartment or a baggage compartment. This change clarifies the mailing instructions when submitting Form 337 to the FAA. The intent of this action is to amend the regulation to ensure mailing requirements are clear and accurate.

DATES: This amendment becomes effective September 20, 2007.

FOR FURTHER INFORMATION CONTACT: Kim Barnette, Aircraft Maintenance Division, Flight Standards Service, Federal Aviation Administration, 800 Independence Avenue, SW., Washington, DC 20591; telephone: (202-493-4922); facsimile: (202-267-5115); e-mail: kim.a.barnette@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

The FAA is issuing this rulemaking under the authority set forth in 49 U.S.C. 44701(a)(5). This regulation is within the scope of that authority because the Administrator is charged with promoting safe flight of civil aircraft by, among other things, prescribing regulations and minimum standards for practices, methods, and procedures the Administrator finds necessary for safety in air commerce and national security.

Background

On September 9, 1987, the FAA published a final rule entitled “Aircraft Identification and Retention of Fuel System Modification Records,” (52 FR 34096). Among other changes, this rule amended part 43, Appendix B, by revising the introductory text of paragraph (a) and adding a new paragraph (d). This rule provided instructions so major alterations for fuel tanks and system modifications would be segregated from other major repairs and alterations.

The new paragraph (d) provided instructions for disposition of the Form 337, Major Repair and Alteration, whenever extended-range fuel tanks are installed within the passenger compartment or a baggage compartment. As part of those instructions, paragraph (c)(2) of Appendix B is referenced for distribution of Form 337.

The FAA has found that since adding paragraph (d), there has been a decline in Form 337s received for extended-range fuel tanks. Review of part 43, Appendix B revealed a wrong address. As currently written, paragraph (c)(2) directs individuals to send a copy of Form 337 to an incorrect address. Any FAA Form 337 that describes a modification to an aircraft fuel system or that shows additional tanks installed, should be mailed to the FAA, Aircraft Registration Branch, AFS-751, P.O. Box 25724, Oklahoma City, OK. All other FAA Form 337s should be mailed to the FAA, Aircraft Registration Branch, AFS-750, P.O. Box 25504, Oklahoma City, OK.

The change in this final rule will clarify and correct the mailing instructions and does not affect any other requirements in part 43.

Reason for Final Rule

This final rule amends the mailing instructions for FAA Form 337 in part 43, Appendix B, paragraphs (c) and (d). The change will allow submission of FAA Form 337 to the correct address. The intent of this action is to amend the regulation to ensure that instructions for submitting this form are clear and accurate.

Justification for Immediate Adoption

Because the circumstances described herein warrant immediate action, the Administrator finds that notice and public comment under 5 U.S.C. 553(b) is impracticable and contrary to the public interest. Further, the Administrator finds that good cause exists under 5 U.S.C. 553(d) for making this rule effective in less than 30 days after publication in the Federal Register. The amendment ensures FAA's commitment to the Anti Drug Abuse Act of 1988, Subtitle E, FAA Drug Enforcement Assistance Act of 1988.

Paperwork Reduction Act

Information collection requirements associated with this final rule have been previously approved by the Office of Management and Budget (OMB) under the provisions of the Paperwork Reduction Act of 1995 (44 U.S.C. section 3507(d)), and have been assigned OMB Control Number 2120-0020.

An agency may not collect or sponsor the collection of information, nor may it impose an information collection requirement unless it displays a currently valid OMB control number.

International Compatibility

The FAA has determined that a review of the Convention on International Civil Aviation Standards and Recommended Practices is not warranted because there is not a comparable rule under ICAO standards.

Regulatory Evaluation, Regulatory Flexibility Determination, International Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Public Law 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

Since this final rule merely clarifies FAA procedures, the expected outcome will be a minimal impact with positive net benefits, and a regulatory evaluation was not prepared. FAA has, therefore, determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This final rule merely revises an incorrect mailing address; the expected outcome will have only a minimal impact on any small entity affected by this rulemaking action. Therefore, as the FAA Administrator, I certify that this rule will not have a significant economic impact on a substantial number of small entities.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and has determined that it will respond to a domestic safety objective and not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million.

This final rule does not contain such a mandate.

Availability of Rulemaking Documents

You can get an electronic copy of rulemaking documents using the Internet by—

1. Searching the Department of Transportation's electronic Docket Management System (DMS) Web page (http://dms.dot.gov/search);

2. Visiting the FAA's Regulations and Policies Web page at http://www.faa.gov/regulations_policies/; or

3. Accessing the Government Printing Office's Web page at http://www.gpoaccess.gov/fr/index.html.

You can also get a copy by sending a request to the Federal Aviation Administration, Office of Rulemaking, ARM-1, 800 Independence Avenue SW., Washington, DC 20591, or by calling (202) 267-9680. Make sure to identify the amendment number or docket number of this rulemaking.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit http://dms.dot.gov.

Small Business Regulatory Enforcement Fairness Act

The Small Business Regulatory Enforcement Fairness Act (SBREFA) of 1996 requires FAA to comply with small entity requests for information or advice about compliance with statutes and regulations within its jurisdiction. If you are a small entity and you have a question regarding this document, you may contact your local FAA official, or the person listed under the FOR FURTHER INFORMATION CONTACT heading at the beginning of the preamble. You can find out more about SBREFA on the Internet at http://www.faa.gov/regulations_policies/rulemaking/sbre_act/.

List of Subjects in 14 CFR Part 43

Aircraft, Aviation safety, Reporting and recordkeeping requirements.

The Amendment

In consideration of the foregoing, the Federal Aviation Administration amends part 43 of Title 14, Code of Federal Regulations as follows:

PART 43—MAINTENANCE, PREVENTIVE MAINTENANCE, REBUILDING, AND ALTERATIONS

1. The authority citation for part 43 continues to read as follows:

Authority: 49 U.S.C. 106(g), 40113, 44701, 44703, 44705, 44707, 44711, 44713, 44717, 44725.

2. Appendix B is amended by revising paragraphs (c) and (d) to read as follows:

Appendix B to Part 43—Recording of Major Repairs and Major Alterations

* * * * *

(c) Except as provided in paragraph (d) of this appendix, for a major repair or major alteration made by a person authorized in § 43.17, the person who performs the major repair or major alteration and the person authorized by § 43.17 to approve that work shall execute an FAA Form 337 at least in duplicate. A completed copy of that form shall be—

(1) Given to the aircraft owner; and

(2) Forwarded to the Federal Aviation Administration, Aircraft Registration Branch, AFS-750, Post Office Box 25504, Oklahoma City, OK 73125, within 48 hours after the work is inspected.

(d) For extended-range fuel tanks installed within the passenger compartment or a baggage compartment, the person who performs the work and the person authorized to approve the work by § 43.7 shall execute an FAA Form 337 in at least triplicate. A completed copy of that form shall be—

(1) Placed on board the aircraft as specified in § 91.417 of this chapter;

(2) Given to the aircraft owner; and

(3) Forwarded to the Federal Aviation Administration, Aircraft Registration Branch, AFS-751, Post Office Box 25724, Oklahoma City, OK 73125, within 48 hours after the work is inspected.

* * * * *

Issued in Washington, DC on August 27, 2007.
James J. Ballough,
Director, Flight Standards Service.

10

[FR Doc. E7-18584 Filed 9-19-07; 8:45 am]

BILLING CODE 4910-13-P